DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans), pursuant to 23 U.S.C 327.

SUMMARY: The FHWA, on behalf of Caltrans, is issuing this notice to announce actions taken by Caltrans that are final. The actions relate to a proposed highway project on State Route 47 (Post Miles 0.3 to PM 0.8) in the City of Los Angeles in Los Angeles County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 19, 2019. If the Federal law that authorizes judicial review of a claim provides a time period of less than 150 days for filing such claim, then that shorter time period still applies.

FOR FURTHER INFORMATION CONTACT: For Caltrans: Karl Price, Senior Environmental Planner, Caltrans District 7, 100 South Main Street, Suite MS 16A, Los Angeles, California, 90012, (213) 897-1839, karl.price@dot.ca.gov.

SUPPLEMENTARY INFORMATION: Effective July 1, 2007, the FHWA assigned, and the California Department of Transportation (Caltrans) assumed, environmental responsibilities for this project pursuant to 23 U.S.C. 327. Notice is hereby given that the Caltrans and the FHWA have taken final agency actions subject to 23 U.S.C. 139(l)(1) by issuing licenses, permits, and approvals for the following highway project in the State of California: The State Route 47/Vincent Thomas Bridge and Front Street/Harbor Boulevard Interchange Reconfiguration Project will reconfigure the existing interchange at State Route 47 (SR-47)/Vincent Thomas Bridge and Harbor Boulevard/Front Street. Also as part of the project, improvements include modification of the eastbound ramps and modification of Harbor Boulevard and Front Street between the new and existing termini. Caltrans has identified the Build Alternative as the Preferred Alternative. The actions by the Federal agencies, and the laws under which such actions were taken, are described in the Environmental Assessment/Finding of No Significant Impact (EA/FONSI) for the project, approved on March 8, 2019, and in other documents in the FHWA project records. The EA/FONSI and other project records are available by contacting Caltrans at the addresses provided above. The Caltrans EA/FONSI can be viewed and downloaded from the project website at http://www.dot.ca.gov/d7/env-docs/.

This notice applies to all Federal agency decisions as of the issuance date of this notice and all laws under which such actions were taken, including but not limited to:

1. National Environmental Policy Act (NEPA) (42 U.S.C. 4321-4351)

2. Clean Air Act (42 U.S.C. 7401-7671(q))

3. Migratory Bird Treaty Act (16 U.S.C. 703-712)

4. Coastal Zone Management Act of 1972

5. Title VI of the Civil Rights Act of 1964, as amended

6. Historic and Cultural Resources: Section 106 of the National Historic Preservation Act of 1966, as amended (16 U.S.C. 470(f) et seq.)

7. Clean Water Act (Section 401) (33 U.S.C. 1251-1377)

8. Federal Endangered Species Act of 1973 (16 U.S.C. 1531-1543)

9. Executive Order 11990—Protection of Wetlands

10. Department of Transportation Act of 1966, Section 4(f) (49 U.S.C. 303)

11. Noise Control Act of 1972

12. Executive Order 13112—Invasive Species

(Catalog of Federal Domestic Assistance Program Number 20.205, Highway Planning and Construction. The regulations implementing Executive Order 12372 regarding intergovernmental consultation on Federal programs and activities apply to this program.)

Authority: 23 U.S.C. 139(l)(1).

Issued on: March 18, 2019.
Tashia J. Clemons,
Director, Planning and Environment, Federal Highway Administration, Sacramento, California.

[FR Doc. 2019-05563 Filed 3-21-19; 8:45 am]

BILLING CODE 4910-RY-P